DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: State Broadband Data and Development Grant Program.

OMB Control Number: 0660-0032.

Form Number(s): None.

Type of Request: Regular submission (revision/extension of a currently approved information collection).

Number of Respondents: 56 respondents; 2,000 sub-respondents.

Average Hours per Response: 3,123, respondents; 50 hours, sub-respondents.

Burden Hours: 549,776.

Needs and Uses: Despite the importance of broadband to the U.S. economy, information about broadband availability was not widely available until this dataset was developed. The data collected will continue to provide critical information for grant-making, regulatory and policy-making efforts, and to improve the quality of state-level broadband information. Numerous public and private stakeholders currently use the data to inform funding, policy and commercial decisions. Consumers and businesses also use the data to identify where broadband is available, the advertised speeds and other information.

NTIA proposes to revise the currently approved reporting requirements to include with each submission of data several “best practices” documents including a document describing each recipient's methodology for collecting and verifying data, a document that summarizes any major changes or corrections to data from the previous submission and a short text file (also known as a “readme” file) that summarizes basic, technical information for the dataset.

Affected Public: Businesses or other for-profit organizations.

Frequency: Semi-annually.

Respondent's Obligation: Mandatory.

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-7285, or via the Internet at Nicholas_A._Fraser@omb.eop.gov.

Dated: April 25, 2013.
Gwellnar Banks,
Management Analyst, Office of the Chief Information Officer.

[FR Doc. 2013-10222 Filed 4-30-13; 8:45 am]

BILLING CODE 3510-06-P